DEPARTMENT OF TRANSPORTATION

Federal Railroad Administration

[Docket No. FRA-2018-0008-N-11]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before February 1, 2019.

ADDRESSES: Submit written comments on the ICRs activities by mail to either: Mr. Robert Brogan, Information Collection Clearance Officer, Office of Railroad Safety, Regulatory Analysis Division, Federal Railroad Administration, 1200 New Jersey Avenue SE, Room W33-497, Washington, DC 20590; or Ms. Kim Toone, Information Collection Clearance Officer, Office of Information Technology, Federal Railroad Administration, 1200 New Jersey Avenue SE, Room W34-212, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, Federal Railroad Administration, 1200 New Jersey Avenue SE, Room W33-497, Washington, DC 20590 (telephone: (202) 493-6292); or Ms. Kim Toone, Information Collection Clearance Officer, Office of Information Technology, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations require. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Certification of Glazing Materials.

OMB Control Number: 2130-0525.

Abstract: The collection of information is set forth under 49 CFR part 223, which requires the certification and permanent marking of glazing materials by the manufacturer. The manufacturer is also responsible for making available test verification data to railroads and FRA upon request.

Form Number(s): N/A.

Affected Public: Businesses.

Respondent Universe: Railroads/Manufacturers.

Frequency of Submission: On occasion.

CFR section | Respondent universe | Total annual responses | Average time per response | Total annual burden hours
223.3—Application | 692 railroads | 400 marked tools (small hammers) with instructions | 30 minutes | 200
—Locomotives, passenger cars, and cabooses built after 1945 used only for excursion, educational, recreational, or private transportation purposes that must comply with emergency window requirements: Marked tools with instruction |  |  |  |
223.11—Locomotive placed in designated service due to a damaged or broken cab window so that the window fails to permit good visibility | 692 railroads | 15 designated locomotives | 30 seconds | .125
223.17—Request to manufacturer of glazing certification information | 5 manufacturers | 10 requests | 15 minutes | 3
—Identification/marking of each unit of glazing material | 5 manufacturers | 25,000 marked pieces of glazing | 480 pieces per hour | 52
—Test verification data | 5 manufacturers | 1 test | 14 hours | 14

Total Estimated Responses: 25,426.

Total Estimated Total Annual Burden: 269 hours.

Status: Regular Review.

Title: Disqualification Proceedings.

OMB Control Number: 2130-0529.

Abstract: FRA regulations at 49 CFR part 209, subpart D, explain FRA's responsibilities, and the rights and responsibilities of railroads and railroad employees, regarding disqualification procedures. Specifically, 49 CFR 209.331, enforcement of a disqualification order, requires: (a) A railroad employing or formerly employing a disqualified individual to disclose the terms and conditions of the order to the individual's new or prospective employer railroad; (b) a railroad considering hiring an individual in a safety-sensitive position to inquire from the individual's prior employer railroad whether the individual is serving under a disqualification order; and (c) a disqualified individual to inform his employer of the disqualification order and provide a copy of the order to the employer and to inform a prospective employer railroad of the disqualification order and provide a copy of the order. Additionally, 49 CFR 209.333(b) prohibits a railroad from employing a person subject to a disqualification order in any manner inconsistent with the order.

Form Number(s): N/A.

Affected Public: Businesses.

Respondent Universe: 40,000 railroad employees (safety sensitive)/741 railroads.

Frequency of Submission: On occasion.

CFR section | Respondent universe | Total annual responses | Average time per response | Total annual burden hours
209.307—Reply by railroad employee to disqualification charges | 40,000 railroad employees | 1 reply | 3 hours | 3
209.309—Informal response by railroad employee to a notice of proposed disqualification | 40,000 railroad employees | 1 response | 1 hour | 1
209.331—Railroad enforcement of disqualification order: RR employing or formerly employing a person serving under a disqualification order must inform other prospective employers | 741 railroads | 1 notification letter + 1 informational letter | 15 minutes + 15 minutes | .50
209.331—Person subject to disqualification order must inform his/her employer and provide copy to employer within 5 days after receipt of such order | 40,000 railroad employees | 1 disqualification letter + 1 copy of disqualification order | 15 minutes + 15 minutes | .50

Total Estimated Responses: 3.

Total Estimated Total Annual Burden: 5 hours.

Status: Regular Review.

Title: Ballast Defects and Conditions-Importance of Identification and Repair in Preventing Development of Unsafe Combinations of Track Conditions.

OMB Control Number: 2130-0614.

Respondent Universe: 741 Railroads.

Safety advisory 2015-04 | Respondent universe | Total annual responses | Average time per response (minutes) | Total annual burden hours
(1) RR Assessment and Update of Engineering Instructions to provide Guidance to Its Track Inspectors on How to Identify and Repair Ballast Defects and Other Ballast Conditions | 741 Railroads | 100 assessments + 100 engineering instruction updates | 60 | 200
(2) RR Training of Its Track Inspectors on Updated Engineering Instructions and FRA Safety Advisory 2015-04 | 741 Railroads | 10,000 trained track inspectors/records | 60 | 10,000

Form Number(s): N/A.

Frequency of Submission: One-time; on occasion.

Total Estimated Responses: 10,200.

Total Estimated Annual Burden: 10,200 hours.

Status: Regular Review.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-26177 Filed 11-30-18; 8:45 am]

BILLING CODE 4910-06-P